DEPARTMENT OF HEALTH AND HUMAN SERVICES

National Institutes of Health

National Institute of Mental Health; Notice of Workshop

Notice is hereby given of a Strategic Planning Workshop convened by the Interagency Autism Coordinating Committee (IACC).

The purpose of the 2012 IACC Strategic Planning Workshop is to discuss, in a public forum, significant advances in basic and translational science and services research that have occurred since January 2011, when the IACC Strategic Plan for Autism Spectrum Disorder Research was previously updated. The group will also identify remaining gap areas in autism research. Invited experts and IACC Subcommittee members will use this forum to share information that may be considered by the IACC in their planning for the 2012 update to the IACC Strategic Plan. The workshop will be open to the public and accessible by live webcast and conference call.

Name of Committee: Interagency Autism Coordinating Committee (IACC).

Type of Meeting: Strategic Planning Workshop.

Date: October 29-30, 2012.

Time: 9:00 a.m. to 5:30 p.m. Eastern Time.

Agenda: The workshop will focus on the seven chapters of the 2011 IACC Strategic Plan, featuring discussions between IACC members and external experts in the areas of basic and translational science, as well as services research and policy, regarding updates that may be considered for the 2012 Strategic Plan. The first day of the workshop, October 29th, will focus on services research and policy. The second day of the workshop, October 30th, will focus on basic and translational research.

Place: Omni Shoreham Hotel, 2500 Calvert Street NW., Washington, DC 20008.

Conference Call Access:

October 29, 2012, Phone number: 888-972-6896, Access code: 1954800.

October 30, 2012, Phone number: 888-469-3189, Access code: 8310127.

Each day of the workshop will feature breakout sessions as part of the agenda. Call-in information for each session will be available on the IACC Web site (http://iacc.hhs.gov/events/) prior to the day of the workshop.

Webcast Live: http://videocast.nih.gov/.

Cost: The meeting is free and open to the public.

Registration: https://pointpass.com/events/IACC_Strategic_Planning_Workshop/. Pre-registration is recommended to expedite check-in. Seating in the meeting room is limited to room capacity and on a first come, first served basis.

Access: The workshop location is within two blocks of the Woodley Park/Zoo/Adams Morgan Metro station (Red Line). On-site parking is available for a fee; limited neighborhood parking may be available.

Contact Person: Ms. Lina Perez, Office of Autism Research Coordination, National Institute of Mental Health, NIH, 6001 Executive Boulevard, NSC, Room 6182a, Rockville, MD 20852, Phone: (301) 443-6040, Email: IACCPublicInquiries@mail.nih.gov.

Please Note: This workshop will also be open to the public through a conference call number and live webcast on the Internet. Members of the public who participate using the conference call phone number will be able to listen to the discussion but will not be heard. If you experience any technical problems with the conference call or webcast, please email iacchelpdesk2012@gmail.com.

To access the live webcast on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Individuals who participate in person or by using these electronic services and who need special assistance, such as captioning of the conference call or other reasonable accommodations, should submit a request to the contact person listed on this notice at least 5 days prior to the meeting.

As a part of security procedures, attendees should be prepared to present a photo ID at the meeting registration desk during the check-in process. Pre-registration is recommended. Seating will be limited to the room capacity and seats will be on a first come, first served basis, with expedited check-in for those who are pre-registered.

The schedule for the meeting is subject to change.

Information about the IACC is available on the Web site: http://www.iacc.hhs.gov.

Dated: October 11, 2012.
Carolyn A. Baum,
Program Analyst, Office of Federal Advisory Committee Policy.

[FR Doc. 2012-25582 Filed 10-17-12; 8:45 am]

BILLING CODE 4140-01-P